DEPARTMENT OF ENERGY

Federal Energy Regulatory Commission

Notice of Application for Amendment of License and Soliciting Comments, Motions To Intervene, and Protests

December 21, 2000.

a. Type of Application: Application to Convey 5 Parcels totaling 20.71 Acres of Project Land for Residential Development.

b. Project No.: 516-329, 516-330, 516-331, 516-332, and 516-333.

c. Date Filed: November 27, 2000.

d. Applicant: South Carolina Electric & Gas Company.

e. Name of Project: Saluda.

f. Location: The project is located in Saluda, Lexington, Newberry and Richland Counties, SC.

g. Filed Pursuant to: Federal Power Act, 16 U.S.C. 791(a)-825(r).

h. Applicant contact: Thomas G. Eppink, Esquire Senior Attorney, South Carolina Electric & Gas Company, Legal Department-130, Columbia, SC 29218, (803) 217-9448, or, Beth Trump, Real Estate Coordinator, (803) 217-7912.

I. FERC contact: John K. Hannula, (202) 219-0116.

j. Deadline for filing comments, motions to intervene and protest: 30 days from the issuance date of this notice. Please include the project number (516-329, etc.) on any comments or motions filed. All documents (original and eight copies) should be filed with: David P. Boergers, Secretary, Federal Energy Regulatory Commission, 888 First Street, NE, Washington, DC 20426, Comments and protests may be filed electronically via the internet in lieu of paper. See, 18 CFR 385.2001(a)(1)(iii) and the instructions on the Commission's web site at http://www.ferc.fed.us/efi/doorbell.htm.

k. Description of the Application: South Carolina Electric & Gas Company requests Commission approval to sell 5 parcels of project fringeland totaling 20.7 acres for residential development to:

Subdocket No. | Buyer's name | Size in acres +/− | Location
-329 | Hamm Estate | 4.57 | Off Macedonia Church Road, Newberry County.
-330 | Michel Hawkins | 4.53 | Off R 391, Saluda County.
-331 | Kenneth Chapman | 5.0 | Off Wildwood Road, Saluda County.
-332 | Nick Leventis | 5.0 | Off Road S-41-89, Saluda County.
-333 | Brent Richardson | 1.61 | Off Dreher Island Rd., Lexington County.

l. Locations of the application: A copy of the application is available for inspection and reproduction at the Commission's Public Reference Room, located at 888 First Street, NE, Room 2A, Washington, DC 20426, or by calling (202) 208-1371. The application may be viewed on the web at www.frc.fed.us/onlinerims.htm (Call 202) 208-2222 for assistance). A copy is also available for inspection and reproduction at the addresses in time h above.

m. Comments, Protests, or Motions to Intervene— Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “NOTICE OF INTENT TO FILE COMPETING APPLICATION”, “COMPETING APPLICATION”, “PROTEST”, “MOTION TO INTERVENE”, as applicable, and the Project Number of the particular application to which the filing refers. An additional copy must be sent to Director, Division of Hydropower Administration and Compliance, Federal Energy Regulatory Commission, at the above-mentioned address. A copy of any notice of intent, competing application or motion to intervene must also be served upon each representative of the Applicant specified in the particular application.

o. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-33106 Filed 12-27-00; 8:45 am]

BILLING CODE 6717-01-M